DEPARTMENT OF COMMERCE

National Oceanic and Atmospheric Administration

Notice of Availability for Public Comment on Proposed Data Management and Communications Standards for U.S. Integrated Ocean Observing System

AGENCY: National Ocean Service (NOS), National Oceanic and Atmospheric Administration (NOAA), Department of Commerce.

ACTION: Notice of availability; request for comments.

SUMMARY: Notice of availability is hereby given for a 30-day public comment period on proposed Data Management and Communications (DMAC) standards for the initial implementation of the U.S. Integrated Ocean Observing System (IOOS). The proposed standards are contained in the draft Ocean.US Data Management and Communications Plan for Research and Operational Integrated Ocean Observing Systems—I. Interoperable Data Discovery, Access, and Archive (May 2004). The Plan, developed by the Ocean.US office under the auspices of the inter-agency National Ocean Research Leadership Council's (NORLC) Ocean Observations Executive Committee (EXCOM), provides guidance to ocean and coastal data providers regarding data documentation (metadata) and discovery, data transport, Internet-enabled data browsing, and data archiving of the U.S. Integrated Ocean Observing System. The Plan provides additional recommendations regarding the incorporation of marine data buoy observations into IOOS by way of establishing cooperative arrangement(s) with the NOAA National Data Buoy Center (NDBC). Review and comment from the public and all interested parties on the proposed standards are hereby solicited. All substantive comments received during the review period will be considered by a broadly based, expert panel convened by Ocean.US for that purpose. The final Plan will subsequently be announced in the Federal Register, and the standards contained therein shall be adopted for the initial implementation of IOOS. Any subsequently proposed modifications or additions to these standards shall be subject to public review and comment as described herein.

DATES: Written comments on the proposed standards must be received no later than 5 p.m. eastern standard time, on December 10, 2004. Written comments should be sent to: Ocean.US, Attention: Ms. Rosalind E. Cohen, 2300 Clarendon Blvd. Suite 1350, Arlington, VA 22201. Comments may also be sent via e-mail to the following address: Rosalind.E.Cohen@noaa.gov, or by FAX to (703) 588-0872. The Plan is available on-line to interested parties from the Office of Ocean.US Web site at the following URL: http://dmac.ocean.us/dacsc/imp_plan.jsp. In addition, copies of the Plan may be obtained by contacting Ocean.US at the above Ocean.US address.

FOR FURTHER INFORMATION CONTACT: For further information about this notice, please contact Rosalind E. Cohen, Office of Ocean.US, telephone: (703) 588-0854. E-mail: Rosalind.E.Cohen@noaa.gov.

SUPPLEMENTARY INFORMATION: The Ocean.US Office, operating by inter-agency agreement under the statutory authority of the National Oceanographic Partnership Program (NOPP, 10 U.S.C. 7901 et seq.), serves as the national agent for integrating ocean observing activities (http://www.ocean.us). Ocean.US is also the focal point for relating U.S. ocean observing system elements to associated international efforts, such as the Global Earth Observing System of Systems (GEOSS) and the Intergovernmental Oceanographic Commission (IOC) sponsored Global Ocean Observing System (GOOS). The U.S. IOOS represents the U.S. contribution to the ocean components of these international partnership efforts. Key to the realization of the U.S. IOOS is the establishment of an integrated DMAC infrastructure. This infrastructure will enable users to discover, retrieve, and use data from federal and state government, government-sponsored, other public, private, and commercial coastal and ocean observing activities regardless of source or location.

In 2002 Ocean.US established a broad-based national IOOS DMAC Steering Committee that was charged with developing a plan for the assessment of IOOS DMAC standards needs, making initial recommendations, and formulating a process by which standards gaps so identified could be addressed. This assessment resulted in the current DMAC Plan: Data Management and Communications Plan for Research and Operational Integrated Ocean Observing Systems—I. Interoperable Data Discovery, Access, and Archive, May 2004. The DMAC Plan provides prioritized recommendations, with additional concrete guidance to data providers, to establish initial DMAC standards and practices for the U.S. IOOS. The areas addressed include: (1) Metadata, data discovery and data location; (2) data transport; (3) data archival; and, (4) data policy.

Review to Date of the Plan and Proposed Standards

Over the past 18 months the DMAC Plan has undergone several levels of review, and substantive comments received at each stage have been incorporated into the current May 2004 draft. Comments were received from internal and external reviews by national and international technical and scientific experts, federal and state ocean and coastal resource managers, as well as organized discussions at various national and regional professional workshops and conferences. Comments were also solicited and received electronically via the Ocean.US Web site. This current solicitation formalizes and completes the public review of the Plan.

Authority: 10 U.S.C. 7901 et seq.

Dated: November 3, 2004.
Richard W. Spinrad,
Assistant Administrator, Ocean Services and Coastal Zone Management, National Oceanic and Atmospheric Administration.

[FR Doc. 04-25109 Filed 11-9-04; 8:45 am]

BILLING CODE 3510-JE-P